ENVIRONMENTAL PROTECTION AGENCY

40 CFR Part 52

[EPA-R03-OAR-2011-0419; FRL-9445-1]

Approval and Promulgation of Air Quality Implementation Plans; Pennsylvania; Determinations of Attainment of the 1997 Fine Particle Standard for the Harrisburg-Lebanon-Carlisle, Johnstown, Lancaster, York, and Reading Nonattainment Areas

AGENCY: Environmental Protection Agency (EPA).

ACTION: Direct final rule.

SUMMARY: EPA is taking direct final action to determine that the Harrisburg-Lebanon-Carlisle (Harrisburg), Johnstown, Lancaster, York, and Reading fine particle (PM2.5) nonattainment areas (the Areas) in the Commonwealth of Pennsylvania have attained the 1997 annual PM2.5 National Ambient Air Quality Standard (NAAQS) by the applicable attainment date of April 5, 2010. These determinations are based upon complete, quality assured, and certified ambient air monitoring data that show the Areas monitored attainment of the 1997 annual PM2.5 NAAQS for the 2007-2009 monitoring period. EPA is finding these Areas to be in attainment in accordance with the requirements of the Clean Air Act (CAA).

DATES: This rule is effective on September 27, 2011 without further notice, unless EPA receives adverse written comment by August 29, 2011. If EPA receives such comments, it will publish a timely withdrawal of the direct final rules in the Federal Register and inform the public that the rules will not take effect.

ADDRESSES: Submit your comments, identified by Docket ID Number EPA-R03-OAR-2011-0419 by one of the following methods:

A. http://www.regulations.gov. Follow the on-line instructions for submitting comments.

B. E-mail: fernandez.cristina@epa.gov.

C. Mail: EPA-R03-OAR-2011-0419, Cristina Fernandez, Associate Director, Office of Air Quality Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2011-0419. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103.

FOR FURTHER INFORMATION CONTACT: Elizabeth Gaige, (215) 814-5676, or by e-mail at gaige.elizabeth@epa.gov.

SUPPLEMENTARY INFORMATION: Throughout this document, whenever “we,” “us,” or “our” is used, we mean EPA.

This supplementary information section is arranged as follows:

I. What actions are EPA taking?

II. What is the background of these actions?

III. What is EPA's analysis of the relevant air quality data?

IV. What are the effects of these actions?

V. Final Action

VI. Statutory and Executive Order Reviews

I. What actions are EPA taking?

In accordance with section 179(c)(1) of the CAA, EPA is determining that the Harrisburg, Johnstown, Lancaster, York, and Reading PM2.5 nonattainment areas have attained the 1997 annual PM2.5 NAAQS by the applicable attainment date of April 5, 2010 and in accordance with EPA's PM2.5 Implementation Rule of April 25, 2007 (72 FR 20664). These determinations are based upon complete, quality assured, and certified ambient air monitoring data from 2007-2009 that show the Areas monitored attainment of the 1997 annual PM2.5 NAAQS during this monitoring period.

II. What is the background for these actions?

On July 18, 1997 (62 FR 36852), EPA established a health-based PM2.5 NAAQS at 15.0 micrograms per cubic meter (μg/m³) based on a 3-year average of annual mean PM2.5 concentrations (hereafter referred to as “the annual PM2.5 NAAQS” or “the annual standard”). At that time, EPA also established a 24-hour standard of 65 μg/m³ (the “1997 24-hour standard”). See 40 CFR 50.7. On January 5, 2005 (70 FR 944), EPA published its air quality designations and classifications for the 1997 PM2.5 NAAQS based upon air quality monitoring data for calendar years 2001-2003. These designations became effective on April 5, 2005. The Harrisburg, Johnstown, Lancaster, York, and Reading areas were designated nonattainment for the 1997 annual PM2.5 NAAQS during this designations process. See 40 CFR 81.339. The Harrisburg nonattainment area consists of Cumberland, Dauphin, and Lebanon Counties. The Johnstown nonattainment area consists of Cambria County and the part of Indiana County which includes the Townships of West Wheatfield, Center, East Wheatfield, and Armagh Borough and Homer City Borough. The Lancaster nonattainment area consists of Lancaster County. The York nonattainment area consists of York County. The Reading nonattainment area consists of Berks County.

On October 17, 2006 (71 FR 61144), EPA retained the 1997 annual PM2.5 NAAQS at 15 μg/m³ based on a 3-year average of annual mean PM2.5 concentrations, and promulgated a 24-hour standard of 35 μg/m³ based on a 3-year average of the 98th percentile of 24-hour concentrations (the “2006 24-hour standard”). On November 13, 2009, EPA designated the Harrisburg-Lebanon-Carlisle-York Area, the Johnstown Area, and the Lancaster Area as nonattainment for the 2006 24-hour standard (74 FR 58688). The Air Quality Control Region (AQCR) 151 Northeast Pennsylvania-Upper Delaware Valley Interstate area which includes Berks County (Reading) is designated as attainment for the 2006 24-hour standard (74 FR 58688). In that action, EPA also clarified that the designations for these Areas were attainment for the 1997 24-hour PM2.5 standard. Today's actions, however, do not address the 1997 or the 2006 24-hour PM2.5 standard.

In response to legal challenges of the annual standard promulgated in 2006, the U.S. Court of Appeals for the District of Columbia Circuit (D.C. Circuit) remanded this standard to EPA for further consideration. See American Farm Bureau Federation and National Pork Producers Council, et al. v. EPA, 559 F.3d 512 (D.C. Circuit 2009). However, given that the 1997 and 2006 annual PM2.5 standards are essentially identical, attainment of the 1997 annual standard would also indicate attainment of the remanded 2006 annual standard.

EPA previously made clean data determinations related to the 1997 annual PM2.5 NAAQS for each of these Areas pursuant to 40 CFR 51.1004(c). A clean data determination was made for the Harrisburg Area on August 25, 2008 (73 FR 49949) and clean data determinations were made for the Johnstown, Lancaster, York, and Reading Areas on September 25, 2009 (74 FR 48863) and remain in effect.

Under CAA section 179(c), EPA is required to make a determination that a nonattainment area has attained by its attainment date, and publish that determination in the Federal Register. The determination of attainment is not equivalent to a redesignation, and the state must still meet the statutory requirements for redesignation in order for the Areas to be redesignated to attainment. Complete, quality assured, certified PM2.5 air quality monitoring data recorded in the EPA Air Quality System (AQS) database for 2007 through 2009, show that the Harrisburg, Johnstown, Lancaster, York, and Reading, PA Areas attained the 1997 annual PM2.5 NAAQS by the applicable attainment date.

III. What is EPA's analysis of the relevant air quality data?

EPA has reviewed the ambient air monitoring data for PM2.5, consistent with the requirements contained in 40 CFR part 50 and recorded in the EPA AQS database for the Harrisburg, Johnstown, Lancaster, York, and Reading nonattainment areas for the monitoring period from 2007 through 2009. On the basis of that review, EPA has concluded that the areas attained the 1997 annual PM2.5 NAAQS based on data for the 2007-2009 monitoring period.

Under EPA regulations at 40 CFR 50.7, the annual primary and secondary PM2.5 standards are met when the annual arithmetic mean concentration, as determined in accordance with 40 CFR part 50, Appendix N, is less than or equal to 15.0 μg/m³. The values calculated in accordance with 40 CFR part 50 Appendix N are referred to as design values, and these values are used to determine if an area is attaining the NAAQS. According to the PM2.5 implementation rule, the attainment date for these areas is April 5, 2010 and monitoring data from the period 2007 through 2009 is used to determine if the areas attained by April 5, 2010.

EPA's review of the data indicate that the Harrisburg, Johnstown, Lancaster, York, and Reading nonattainment areas attained the annual 1997 PM2.5 NAAQS by the applicable attainment date. The data, presented in Tables 1 through 5, are available at http://www.epa.gov/air/airtrends/values.html and can be found under the heading: Design Values 2007-2009, PM2.5 Design Values.

Table 1 shows the PM2.5 design values for each monitor in the Harrisburg Area for the years 2007-2009. All 2007-2009 design values are below 15.0 μg/m³ and all monitors meet the data completeness requirements. Therefore, the Harrisburg Area attained the 1997 annual PM2.5 NAAQS by its attainment date.

Table 1—Annual PM2.5 Values, Harrisburg Area
State | County | Monitor ID | 2007 Mean (μg/m³) | 2008 Mean (μg/m³) | 2009 Mean (μg/m³) | Certified design value 2007-2009 (μg/m³)
Pennsylvania | Cumberland | 420410101 | 13.7 | 13.0 | 11.1 | 12.6
| Dauphin | 420430401 | 14.3 | 13.2 | 12.2 | 13.2
| Lebanon | No monitor |  |  |  |

Table 2 shows the PM2.5 design values for each monitor in the Johnstown Area for the years 2007-2009. All 2007-2009 design values are below 15.0 μg/m³ and all monitors meet the data completeness requirements. Therefore, the Johnstown Area attained the 1997 annual PM2.5 NAAQS by its attainment date.

Table 2—Annual PM2.5 Values, Johnstown Area
State | County | Monitor ID | 2007 Mean (μg/m³) | 2008 Mean (μg/m³) | 2009 Mean (μg/m³) | Certified design value 2007-2009 (μg/m³)
Pennsylvania | Cambria | 420210011 | 14.4 | 13.9 | 11.9 | 13.4
| Indiana (part) | No monitor |  |  |  |

Table 3 shows the PM2.5 design values for each monitor in the Lancaster Area for the years 2007-2009. All 2007-2009 design values are below 15.0 μg/m³ and all monitors meet the data completeness requirements. Therefore, the Lancaster Area attained the 1997 annual PM2.5 NAAQS by its attainment date.

Table 3—Annual PM2.5 Values, Lancaster Area
State | County | Monitor ID | 2007 Mean (μg/m³) | 2008 Mean (μg/m³) | 2009 Mean (μg/m³) | Certified design value 2007-2009 (μg/m³)
Pennsylvania | Lancaster | 420710007 | 15.4 | 13.9 | 12.2 | 13.8

Table 4 shows the PM2.5 design values for each monitor in the York Area for the years 2007-2009. All 2007-2009 design values are below 15.0 μg/m³ and all monitors meet the data completeness requirements. Therefore, the York Area attained the 1997 annual PM2.5 NAAQS by its attainment date.

Table 4—Annual PM2.5 Values, York Area
State | County | Monitor ID | 2007 Mean (μg/m³) | 2008 Mean (μg/m³) | 2009 Mean (μg/m³) | Certified design value 2007-2009 (μg/m³)
Pennsylvania | York | 421330008 | 15.8 | 13.6 | 11.7 | 13.7

Table 5 shows the PM2.5 design values for each monitor in the Reading Area for the years 2007-2009. All 2007-2009 design values are below 15.0 μg/m³ and all monitors meet the data completeness requirements. Therefore, the Reading Area attained the 1997 annual PM2.5 NAAQS by its attainment date.

Table 5—Annual PM2.5 Values, Reading Area
State | County | Monitor ID | 2007 Mean (μg/m³) | 2008 Mean (μg/m³) | 2009 Mean (μg/m³) | Certified design value 2007-2009 (μg/m³)
Pennsylvania | Berks | 420110011 | 14.3 | 12.5 | 10.9 | 12.6

IV. What are the effects of these actions?

EPA is determining that the Harrisburg, Johnstown, Lancaster, York, and Reading Areas have attained the 1997 annual PM2.5 NAAQS by the applicable attainment date of April 5, 2010. Therefore, EPA has met the requirement pursuant to the CAA section 179(c) to make a determination based on the Areas' air quality data that the Areas attained the standard by the attainment date. Also, since the Harrisburg, Johnstown, Lancaster, York, and Reading Areas have attained the 1997 annual PM2.5 NAAQS by the applicable attainment date, the Areas are not subject to the consequences of failure to attain.

These actions do not constitute a redesignation to attainment under section 107(d)(3) of the CAA. The designation status of the Harrisburg, Johnstown, Lancaster, York, and Reading Areas will remain nonattainment for the 1997 annual PM2.5 NAAQS until such time as EPA determines that the areas meet the CAA requirements for redesignation to attainment. Further, these actions do not involve approving maintenance plans for the Areas as required under section 175A of the CAA, nor do they find that the Areas have met all other requirements for redesignation. The designation status of the Harrisburg, Johnstown, Lancaster, York, and Reading Areas will remain nonattainment for the 1997 annual PM2.5 NAAQS until such time as EPA determines that the Areas meet the CAA requirements for redesignation to attainment and take action to redesignate the Harrisburg, Johnstown, Lancaster, York, and Reading Areas.

V. Final Action

Pursuant to section 179(c) of the CAA, EPA is determining that the Harrisburg, Johnstown, Lancaster, York, and Reading Areas attained the 1997 annual PM2.5 NAAQS by the applicable attainment date of April 5, 2010. EPA is publishing this rule without prior proposal because the Agency views this as a noncontroversial action and anticipates no adverse comment. However, in the “Proposed Rules” section of today's Federal Register, EPA is publishing a separate document that will serve as the proposal to determine these areas attained the 1997 annual PM2.5 NAAQS by the applicable attainment date if adverse comments are filed. This rule will be effective on September 27, 2011 without further notice unless EPA receives adverse comment by August 29, 2011. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of these rules and if that provision may be severed from the remainder of the rules, EPA may adopt as final those provisions of the rules that are not the subject of an adverse comment.

VI. Statutory and Executive Order Reviews

A. General Requirements

This action merely makes attainment determinations based on air quality data and does not impose any additional requirements. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition these PM2.5 NAAQS attainment determinations do not have Tribal implications as specified by Executive Order 13175 (65 FR 67249, November 9, 2000), because the SIP is not approved to apply in Indian country located in the state, and EPA notes that it will not impose substantial direct costs on Tribal governments or preempt Tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing these actions and other required information to the U.S. Senate, the U.S. House of Representatives, and the Comptroller General of the United States prior to publication of the rules in the Federal Register. A major rule cannot take effect until 60 days after it is published in the Federal Register. These actions are not “major rules” as defined by 5 U.S.C. 804(2).

C. Petitions for Judicial Review

Under section 307(b)(1) of the CAA, petitions for judicial review of these actions must be filed in the United States Court of Appeals for the appropriate circuit by September 27, 2011. Filing a petition for reconsideration by the Administrator of these final rules does not affect the finality of this action for the purposes of judicial review nor does it extend the time within which a petition for judicial review may be filed, and shall not postpone the effectiveness of such rule or action. Parties with objections to these direct final rules are encouraged to file a comment in response to the parallel notice of proposed rulemaking for these actions published in the proposed rules section of today's Federal Register, rather than file an immediate petition for judicial review of these direct final rules, so that EPA can withdraw these direct final rules and address the comment in the proposed rulemakings. These actions, to determine that the Harrisburg, Johnstown, Lancaster, York, and Reading Areas attained the 1997 annual PM2.5 NAAQS by the applicable attainment date of April 5, 2010, may not be challenged later in proceedings to enforce its requirements. (See section 307(b)(2).)

List of Subjects in 40 CFR Part 52

Environmental protection, Air pollution control, Intergovernmental relations, Incorporation by reference, Particulate matter.

Dated: July 18, 2011.:
W.C. Early,
Acting, Regional Administrator, Region III.

40 CFR part 52 is amended as follows:

PART 52—[AMENDED]

1. The authority citation for part 52 continues to read as follows:

Authority: 42 U.S.C. 7401 et seq.

Subpart NN—Pennsylvania

2. Section 52.2056 is added to read as follows:

§ 52.2056 Determinations of attainment.

(a) Based upon EPA's review of the air quality data for the 3-year period 2007 to 2009, EPA determined that the Harrisburg-Lebanon-Carlisle (Harrisburg) fine particle (PM2.5) nonattainment area attained the 1997 annual PM2.5 National Ambient Air Quality Standard (NAAQS) by the applicable attainment date of April 5, 2010. Therefore, EPA has met the requirement pursuant to CAA section 179(c) to determine, based on the area's air quality as of the attainment date, whether the area attained the standard. EPA also determined that the Harrisburg PM2.5 nonattainment area is not subject to the consequences of failing to attain pursuant to section 179(d).

(b) Based upon EPA's review of the air quality data for the 3-year period 2007 to 2009, EPA determined that the Johnstown fine particle (PM2.5) nonattainment area attained the 1997 annual PM2.5 National Ambient Air Quality Standard (NAAQS) by the applicable attainment date of April 5, 2010. Therefore, EPA has met the requirement pursuant to CAA section 179(c) to determine, based on the area's air quality as of the attainment date, whether the area attained the standard. EPA also determined that the Johnstown PM2.5 nonattainment area is not subject to the consequences of failing to attain pursuant to section 179(d).

(c) Based upon EPA's review of the air quality data for the 3-year period 2007 to 2009, EPA determined that the Lancaster fine particle (PM2.5) nonattainment area attained the 1997 annual PM2.5 National Ambient Air Quality Standard (NAAQS) by the applicable attainment date of April 5, 2010. Therefore, EPA has met the requirement pursuant to CAA section 179(c) to determine, based on the area's air quality as of the attainment date, whether the area attained the standard. EPA also determined that the Lancaster PM2.5 nonattainment area is not subject to the consequences of failing to attain pursuant to section 179(d).

(d) Based upon EPA's review of the air quality data for the 3-year period 2007 to 2009, EPA determined that the York fine particle (PM2.5) nonattainment area attained the 1997 annual PM2.5 National Ambient Air Quality Standard (NAAQS) by the applicable attainment date of April 5, 2010. Therefore, EPA has met the requirement pursuant to CAA section 179(c) to determine, based on the area's air quality as of the attainment date, whether the area attained the standard. EPA also determined that the York PM2.5 nonattainment area is not subject to the consequences of failing to attain pursuant to section 179(d).

(e) Based upon EPA's review of the air quality data for the 3-year period 2007 to 2009, EPA determined that the Reading fine particle (PM2.5) nonattainment area attained the 1997 annual PM2.5 National Ambient Air Quality Standard (NAAQS) by the applicable attainment date of April 5, 2010. Therefore, EPA has met the requirement pursuant to CAA section 179(c) to determine, based on the area's air quality as of the attainment date, whether the area attained the standard. EPA also determined that the Reading PM2.5 nonattainment area is not subject to the consequences of failing to attain pursuant to section 179(d).

[FR Doc. 2011-19143 Filed 7-28-11; 8:45 am]

BILLING CODE 6560-50-P